DEPARTMENT OF ENERGY

10 CFR Part 900

[DOE-HQ-2023-0050]

RIN 1901-AB62

Coordination of Federal Authorizations for Electric Transmission Facilities

AGENCY: Grid Deployment Office, Department of Energy.

ACTION: Notification of public meeting.

SUMMARY: On August 16, 2023, the Department of Energy's (DOE) Grid Deployment Office published a notice of proposed rulemaking (NOPR) to propose amendments to its regulations for the timely coordination of Federal authorizations for proposed interstate electric transmission facilities pursuant to the Federal Power Act (FPA). This document announces a public meeting to be held on August 23, 2023, to discuss the proposal.

DATES: DOE will hold a public meeting via webinar on Wednesday, August 23, 2023, from 1:30 p.m. ET to 3:00 p.m. ET. Requests to speak during the meeting must be submitted via the registration page no later than Tuesday, August 22, 2023. See the “Public Participation” section for webinar registration information, participant instructions, and information about the capabilities available to webinar participants. DOE will accept comments, data, and information regarding the NOPR no later than Monday, October 2, 2023.

ADDRESSES: Interested persons are encouraged to submit comments on the NOPR using the Federal eRulemaking Portal at www.regulations.gov under docket number DOE-HQ-2023-0050. Follow the instructions for submitting comments. Alternatively, interested persons may submit comments, identified by docket number DOE-HQ-2023-0050 and/or Regulation Identification Number (RIN) 1901-AB62, by any of the following methods:

• Email: CITAP@hq.doe.gov. Include the docket number DOE-HQ-2023-0050 and/or RIN 1901-AB62 in the subject line of the email.

• Postal mail: Address written comments to U.S. Department of Energy, Grid Deployment Office, 4H-065, 1000 Independence Avenue SW, Washington, DC 20585.

• Hand Delivery/Courier: U.S. Department of Energy, Grid Deployment Office, 4H-065, 1000 Independence Avenue SW, Washington, DC 20585.

Docket: The docket for this activity, which includes Federal Register notices, comments, and other supporting documents/materials, is available for review at www.regulations.gov under docket number DOE-HQ-2023-0050. All documents in the docket are listed in the www.regulations.gov index. However, some documents listed in the index, such as those containing information that is exempt from public disclosure, may not be publicly available.

FOR FURTHER INFORMATION CONTACT: Liza Reed, U.S. Department of Energy, Grid Deployment Office, 4H-065, 1000 Independence Avenue SW, Washington, DC 20585. Telephone: (202) 586-2006. Email: CITAP@hq.doe.gov.

SUPPLEMENTARY INFORMATION: DOE published a NOPR on August 16, 2023, in which DOE proposed amendments to 10 CFR part 900 to establish a Coordinated Interagency Transmission Authorizations and Permits Program (CITAP Program) that will reduce the time required for electric transmission project developers to receive decisions on Federal authorizations for electric transmission projects. (88 FR 55826) In the proposed rulemaking, DOE sought comment from interested persons. DOE announces in this document that it will hold a public meeting via webinar to discuss the NOPR on Wednesday, August 23, 2023, from 1:30 p.m. ET to 3:00 p.m. ET.

Public Participation

A. Participation in the Webinar

The time and date for the webinar meeting are listed in the DATES section at the beginning of this document. Webinar registration information, participant instructions, and information about the capabilities available to webinar participants are published on DOE's website: https://www.energy.gov/gdo/events/august-23-coordinated-interagency-transmission-authorization-and-permits-webinar. The public meeting will be held via the WebEx Webinar Platform. Participants are responsible for ensuring their systems are compatible with the webinar software. Requests to speak during the meeting must be submitted via the registration page no later than August 22, 2023.

B. Conduct of the Webinar

DOE will designate a DOE official to preside at the webinar and may also use a professional facilitator to aid discussion. A court reporter will be present to record the proceedings and prepare a transcript. DOE reserves the right to schedule the order of presentations and to establish the procedures governing the conduct of the webinar. There shall not be discussion of proprietary information, costs or prices, market share, or other commercial matters regulated by U.S. anti-trust laws. After the webinar and until the end of the comment period, interested parties may submit further comments on the proceedings and any aspect of the proposed rulemaking. During the meeting, DOE will present a general overview of the topics addressed in the NOPR and allow time for statements by participants who requested the opportunity to speak at the meeting. Speakers will be limited to two minutes during the meeting. The presiding official will announce any further procedural rules or modification of the above procedures that may be needed for the proper conduct of the webinar.

A transcript of the webinar will be included in the docket, which can be viewed as described in the Docket section at the beginning of this document.

Signing Authority

This document of the Department of Energy was signed on August 16, 2023, by Maria D. Robinson, Director of the Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 16, 2023.
Treena V. Garrett,
Federal Register Liaison Officer, U.S. Department of Energy.

[FR Doc. 2023-17955 Filed 8-21-23; 8:45 am]

BILLING CODE 6450-01-P